SECURITIES AND EXCHANGE COMMISSION

Submission for OMB Review; Comment Request

Upon written request, copies available from: Securities and Exchange Commission, Office of Filings and Information Services, Washington, DC 20549.

Extensions: Form F-80, SEC File No. 270-357, OMB Control No. 3235-0404, and Form 18, SEC File No. 270-105, OMB Control No. 3235-0121.

Notice is hereby given that, pursuant to the Paperwork Reduction Act of 1995 (44 U.S.C. 3501 et seq.), the Securities and Exchange Commission (“Commission”) has submitted to the Office of Management and Budget requests for extension of the previously approved collections of information discussed below.

Form F-80 is used by certain Canadian issuers to register securities to be issued in exchange offers or business combinations. All information provided on Form F-80 must be submitted to the Commission. The Commission uses very little of the collected information itself except on an occasional basis in the enforcement of the securities laws. Form F-80 is required to be filed on occasion and is a public document. Form F-80 takes approximately 2 hours to prepare and is filed by 2 respondents for a total of 4 burden hours.

Form 18 is used for the registration of securities of any foreign government or political subdivision on a U.S. Exchange. All information provided on Form 18 must be submitted to the Commission. The Commission uses very little of the collected information itself except on an occasional basis in the enforcement of the securities laws. Form 18 is filed on occasion and is a public document. Form 18 takes approximately 8 hours to prepare and is filed by 5 respondents for a total of 40 burden hours.

An agency may not conduct or sponsor, and a person is not required to respond to, a collection of information unless it displays a currently valid control number.

Written comments regarding the above information should be directed to the following persons: (i) Desk Officer for the Securities and Exchange Commission, Office of Information and Regulatory Affairs, Office of Management and Budget, Room 10102, New Executive Office Building, Washington, DC 20503; and (ii) Michael E. Bartell, Associate Executive Director, Office of Information Technology, Securities and Exchange Commission, 450 Fifth Street, NW, Washington, DC 20549. Comments must be submitted to OMB within 30 days of this notice.

Dated: August 1, 2000.
Margaret H. McFarland,
Deputy Secretary.

[FR Doc. 00-19906 Filed 8-4-00; 8:45 am]

BILLING CODE 8010-01-M